DEPARTMENT OF COMMERCE

National Oceanic and Atmospheric Administration

[RTID XA971]

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day meeting to consider actions affecting New England fisheries in the exclusive economic zone (EEZ). Due to federal and state travel restrictions and updated guidance from the Centers for Disease Control and Prevention related to COVID-19, this meeting will be conducted entirely by webinar.

DATES: The webinar meeting will be held on Tuesday, Wednesday, and Thursday, April 13-15, 2021, beginning at 12 p.m. on April 13 and 9 a.m. on April 14 and April 15.

ADDRESSES: All meeting participants and interested parties can register to join the webinar at https://register.gotowebinar.com/register/1904697600653229067.

Council address: New England Fishery Management Council, 50 Water Street, Mill 2, Newburyport, MA 01950; telephone (978) 465-0492; www.nefmc.org.

FOR FURTHER INFORMATION CONTACT: Thomas A. Nies, Executive Director, New England Fishery Management Council; telephone: (978) 465-0492, ext. 113.

SUPPLEMENTARY INFORMATION:

Agenda

Tuesday, April 13, 2021

After introductions and brief announcements, the Council will receive reports on recent activities from its Chairman and Executive Director, NMFS's Greater Atlantic Regional Fisheries Office (GARFO) Regional Administrator, the Northeast Fisheries Science Center (NEFSC) Director, the Mid-Atlantic Fishery Management Council liaison, staff from the Atlantic States Marine Fisheries Commission (ASMFC), and representatives from NOAA General Counsel, NOAA's Office of Law Enforcement, the U.S. Coast Guard, and the South Atlantic Council's Dolphin/Wahoo Committee. Next, the Northeast Fisheries Science Center will provide an overview of its efforts to address climate change impacts on fisheries. This briefing will be followed by a progress report on the Northeast Region Coordinating Council's scenario planning initiative to address climate change impacts and implications. At 3:00 p.m., NMFS will hold a listening session on Executive Order 14008, Tackling the Climate Crisis at Home and Abroad, focusing on Section 216(c), which is specific to making fisheries and protected resources more resilient to climate change. The Council and public will have the opportunity to provide recommendations and comments directly to NMFS, which is also known as NOAA Fisheries. As the final order of business for the day, the Council will receive an update on congressional activities.

Wednesday, April 14, 2021

The Council will begin the day with a progress report from its Atlantic Herring Committee. The Council will discuss next steps on actions to: (1) Develop a rebuilding plan to address the overfished status of the Atlantic herring resource; (2) potentially adjust herring accountability measures; and (3) consider spawning closures on Georges Bank under Framework Adjustment 7. Next, the Council will hear from its Skate Committee, which first will provide a summary of comments received during the recent supplemental scoping period for Amendment 5 to the Northeast Skate Complex Fishery Management Plan. The amendment considers establishing limited access in the skate wing and/or bait fisheries and other measures to address several issues in the fishery. The Council will discuss next steps for this action and also receive an update on other 2021 skate priorities.

Following the lunch break, the Council will hear from its Habitat Committee on three items. First, the Council will receive a progress report on work being done to assess possible revisions to the Habitat Management Area on the Northern Edge of Georges Bank. Second, the Council will discuss and provide feedback to the Habitat Committee on a strategy for ongoing engagement and coordination with NOAA Fisheries on aquaculture issues. Third, the Council will receive an update on offshore wind developments in the Greater Atlantic Region.

Following the habitat discussion, the Greater Atlantic Regional Fisheries Office will provide a short progress report on the status of the 2021 Atlantic Sea Scallop Biological Opinion to address turtle interactions in the scallop fishery. Also related to scallops, the Council will receive updates on: (1) The formation of the new Scallop Survey Working Group and its recent activities; and (2) other 2021 Council scallop priorities. The Council will close out the day with a report on and discussion of the Northeast Trawl Advisory Panel's March 19, 2021 meeting.

Thursday, April 15, 2021

The Council will begin the third day of its meeting with a presentation on the NEFSC's State of the Ecosystem 2021 Report for New England. Next, the Council will hear the Scientific and Statistical Committee's recommendations on the State of the Ecosystem 2021 Report and have an opportunity to ask questions and discuss the report's contents. After that, the Ecosystem-Based Fishery Management (EBFM) Management Strategy Evaluation (MSE) Steering Committee will provide an update on its EBFM public information workshop planning efforts. Following this update, members of the public will have the opportunity to speak during an open comment period on issues that relate to Council business but are not included on the published agenda for this meeting. The Council asks the public to limit remarks to 3-5 minutes. These comments will be received through the webinar. A guide for how to publicly comment through the webinar is available on the Council website at https://s3.amazonaws.com/nefmc.org/NEFMC-meeting-remote-participation_generic.pdf. Next, the Council will go into its Groundfish Report, which will focus on next steps in response to public feedback received on a recreational groundfish party/charter fishery limited entry strawman. The Council then will close out the meeting with other business.

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is being conducted entirely by webinar. Requests for auxiliary aids should be directed to Thomas A. Nies (see ADDRESSES) at least 5 days prior to the meeting date.

Authority: 16 U.S.C. 1801 et seq.

Dated: March 23, 2021.
Tracey L. Thompson,
Acting Deputy Director, Office of Sustainable Fisheries, National Marine Fisheries Service.

[FR Doc. 2021-06314 Filed 3-25-21; 8:45 am]

BILLING CODE 3510-22-P